ENVIRONMENTAL PROTECTION AGENCY

[FRL-7707-7]

Clean Air Act Advisory Committee; Notice of Meeting

AGENCY: Environmental Protection Agency.

ACTION: Notice.

SUMMARY: The Environmental Protection Agency (EPA) established the Clean Air Act Advisory Committee (CAAAC) on November 19, 1990, to provide independent advice and counsel to EPA on policy issues associated with implementation of the Clean Air Act of 1990. The Committee advises on economic, environmental, technical scientific, and enforcement policy issues.

Open Meeting Notice: Pursuant to 5 U.S.C. App.2 section 10 (a) (2), notice is hereby given that the Clean Air Act Advisory Committee will hold its next open meeting on Tuesday, November 6, 2001, from approximately 8:30 a.m. to 3:30 p.m. at the Renaissance Mayflower Hotel, 1127 Connecticut Avenue, N.W., Washington, D.C. Seating will be available on a first come, first served basis. Three of the CAAAC's four Subcommittees (the Linking Energy, Land Use, Transportation, and Air Quality Concerns Subcommittee; the Permits/NSR/Toxics Integration Subcommittee; and the Economics Incentives and Regulatory Innovations Subcommittee) will hold meetings on Monday, November 5, 2001 from approximately 10:00 a.m. to 5:00 p.m. at the Renaissance Mayflower Hotel, the same location as the full Committee. The Energy, Clean Air and Climate Change Subcommittee will not meet at this time. The Linking Energy, Land Use, and Transportation, and Air Quality Concerns Subcommittee is scheduled to meet from 10:00 a.m. to 12:00 noon; the Economic Incentives and Regulatory Innovations Subcommittee is scheduled to meet from 12:30 p.m. to 3:00 p.m.; and the Permits/NSR/Toxics Subcommittee is scheduled to meet from 3:00 p.m. to 5:00 p.m.

Inspection of Committee Documents: The Committee agenda and any documents prepared for the meeting will be publicly available at the meeting. Thereafter, these documents, together with CAAAC meeting minutes, will be available by contacting the Office of Air and Radiation Docket and requesting information under docket item A-94-34 (CAAAC). The Docket office can be reached by telephoning 202-260-7548; FAX 202-260-4400.

FOR FURTHER INFORMATION: concerning this meeting of the full CAAAC, please contact Paul Rasmussen, Office of Air and Radiation, US EPA (202) 564-1306, FAX (202) 564-1352 or by mail at US EPA, Office of Air and Radiation (Mail code 6102 A), 1200 Pennsylvania Avenue, N.W. Washington, D.C. 20004. For information on the Subcommittee meetings, please contact the following individuals: (1) Permits/NSR/Toxics Integration—Debbie Stackhouse, 919-541-5354; and (2) Linking Transportation, Land Use and Air Quality Concerns—Robert Larson, 734-214-4277; and (3) Economic Incentives and Regulatory Innovations—Carey Fitzmaurice, 202-564-1667.

Additional information on these meetings and the CAAAC and its Subcommittees can be found on the CAAAC Web Site: www.epa.gov/oar/caaac/.

Dated: October 2, 2001.
Robert D. Brenner,
Principal Deputy Assistant Administrator for Air and Radiation.

[FR Doc. 01-25414 Filed 10-9-01; 8:45 am]

BILLING CODE 6560-50-P